DEPARTMENT OF COMMERCE

Bureau of Industry and Security

15 CFR Part 738

Commerce Control List Overview and the Country Chart

CFR Correction

In Title 15 of the Code of Federal Regulations, Parts 300 to 799, revised as of January 1, 2015, on page 261, in Supplement No. 1 to Part 738—Commerce Country Chart, remove footnote 1 from Congo (Republic of the) and add footnote 1 to Congo (Democratic Republic of the).

[FR Doc. 2015-31132 Filed 12-9-15; 8:45 am]

BILLING CODE 1505-01-D